NATIONAL ARCHIVES AND RECORDS ADMINISTRATION

Office of Government Information Services

[NARA-2019-032]

Chief FOIA Officers' Council Meeting

AGENCY: Office of Government Information Services (OGIS), National Archives and Records Administration (NARA), Office of Information Policy (OIP), U.S. Department of Justice (DOJ).

ACTION: Notice of meeting.

SUMMARY: We are announcing 2019's annual Chief FOIA Officers' Council meeting, co-chaired by the Director of OGIS and the Director of OIP.

DATES: The meeting will be on Monday, August 5, 2019, from 10:00 a.m. to 12:00 p.m. EDT. Please register for the meeting no later than 5:00 p.m. EDT on Friday, August 2, 2019 (registration information is below).

ADDRESSES: National Archives and Records Administration (NARA); 700 Pennsylvania Avenue NW, William G. McGowan Theater; Washington, DC 20408.

FOR FURTHER INFORMATION CONTACT: Kirsten Mitchell, by mail at National Archives and Records Administration; Office of Government Information Services; 8601 Adelphi Road—OGIS; College Park, MD 20740-6001, by telephone at 202.741.5782, or by email at ogis@nara.gov with the subject line “Chief FOIA Officers' Council.”

SUPPLEMENTARY INFORMATION: This meeting is open to the public in accordance with the Freedom of Information Act (5 U.S.C. 552(k)). The Chief FOIA Officers' Council is co-chaired by the Directors of OIP and OGIS. Among the purposes of the Chief FOIA Officers' Council is developing recommendations to increase compliance and efficiency and sharing best practices and innovative approaches. Additional details about the meeting will be available on OGIS's website at https://archives.gov/ogis/about-ogis/Chief-FOIA-Officers-Council and OIP's website at https://www.justice.gov/oip/chief-foia-officers-council.

Procedures: Due to security requirements, you must register in advance if you wish to attend the meeting. You will also go through security screening when you enter the building. Registration for the meeting will go live via Eventbrite on Friday, July 12, 2019. To register for the meeting, please do so at the following Eventbrite link: https://www.eventbrite.com/e/chief-foia-officers-council-meeting-august-5-2019-tickets-64422234638.

We will also live-stream the meeting on the National Archives YouTube channel, https://www.youtube.com/user/usnationalarchives/playlists, and include a captioning option. Please check back on the OGIS and OIP websites for the specific National Archives YouTube channel link. To request additional accommodations (e.g., a transcript), email ogis@nara.gov or call 202.741.5770.

Members of the media who wish to register, those who are unable to register online, and those who require special accommodations, should contact Kirsten Mitchell at the phone number, mailing address, or email address listed above.

Alina Semo,
Director, Office of Government Information Services.

[FR Doc. 2019-14508 Filed 7-8-19; 8:45 am]

BILLING CODE 7515-01-P